DEPARTMENT OF HEALTH AND HUMAN SERVICES

Centers for Disease Control and Prevention

[30Day-09-0691]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

State Medicaid Tobacco Coverage Survey—Reinstatement—National Center for Chronic Disease Prevention and Control (NCCDPHP), Centers for Disease Control and Prevention (CDC).

Background and Brief Description

Tobacco use remains the leading preventable cause of death in the United States despite the availability of evidence-based treatments for tobacco dependence, which include counseling and FDA-approved pharmacotherapies. To increase both the use of treatment by smokers attempting to quit and the number of smokers who quit successfully, the Guide to Community Preventive Services recommends reducing the out-of-pocket cost of effective tobacco-dependence treatments, and the Public Health Service (PHS) Clinical Practice Guideline supports expanded insurance coverage for tobacco-dependence treatment.

Medicaid recipients have approximately 50% greater smoking prevalence than the overall U.S. adult population, and they are disproportionately affected by tobacco-related disease and disability. Information about the amount and type of coverage for tobacco-dependence treatment offered by Medicaid has been collected during 1998, 2000, 2001, 2002, 2003, 2005, 2006, and 2007. Information collection for the three most recent years (2005-2007) was conducted by the Centers for Disease Control and Prevention (OMB No. 0920-0691, expiration date 8/31/2008). Respondents were Medicaid directors or their designees in all 50 states and the District of Columbia.

CDC requests OMB approval to reinstate information collection for an additional three-year period. Responses will be submitted electronically using a web-based survey instrument. Minor changes to the instrument are proposed to address compliance with recommendations made in the updated PHS clinical practice guideline issued in May of 2008, such as coverage for combination therapies, smokeless tobacco use, and states' familiarity with and use of the 2000 PHS guideline. The minor changes are not expected to affect the overall burden estimate. To minimize burden, each respondent will only be asked to record changes that occurred since the time of the previous submission. As in previous years, each respondent will also attach a copy of the state's Medicaid coverage plan to their completed survey, in order to assist the research team with the interpretation of responses.

The information to be collected will allow CDC to continue monitoring compliance with the most recent PHS recommendations and the progress of State Medicaid Programs toward the 2010 National Health Objectives and Healthy People 2010 goals.

There are no costs to respondents except the time to complete the survey. The total estimated burden hours are 26.

Estimated Annualized Burden Hours
Respondents | Number of respondents | Number of responses per respondent | Average burden per response (in hours)
State Medicaid Programs | 51 | 1 | 30/60

Dated: January 13, 2009.
Maryam I. Daneshvar,
Acting Reports Clearance Officer, Centers for Disease Control and Prevention.

[FR Doc. E9-1227 Filed 1-21-09; 8:45 am]

BILLING CODE 4163-18-P